DEPARTMENT OF ENERGY

Federal Energy Regulatory Commission

Combined Notice of Filings #1

Take notice that the Commission received the following exempt wholesale generator filings:

Docket Numbers: EG21-116-000.

Applicants: Diablo Energy Storage, LLC.

Description: Notice of Self-Certification of Exempt Wholesale Generator Status of Diablo Energy Storage, LLC.

Filed Date: 3/23/21.

Accession Number: 20210323-5214.

Comments Due: 5 p.m. ET 4/13/21.

Take notice that the Commission received the following electric rate filings:

Docket Numbers: ER15-2028-012.

Applicants: Southwest Power Pool, Inc.

Description: Compliance filing: Compliance Filing in Response to Order issued in ER15-2028-011 (Corn Belt) to be effective N/A.

Filed Date: 3/24/21.

Accession Number: 20210324-5067.

Comments Due: 5 p.m. ET 4/14/21.

Docket Numbers: ER20-819-004.

Applicants: Blythe Solar III, LLC.

Description: Notice of Change in Status of Blythe Solar III, LLC.

Filed Date: 3/23/21.

Accession Number: 20210323-5272.

Comments Due: 5 p.m. ET 4/13/21.

Docket Numbers: ER21-1504-000.

Applicants: Midcontinent Independent System Operator, Inc.

Description: § 205(d) Rate Filing: 2021-03-23_SA 3273 150 Mvar Cap Bank at Blackhawk 345kV MPFCA 1st Rev to be effective 3/5/2021.

Filed Date: 3/23/21.

Accession Number: 20210323-5165.

Comments Due: 5 p.m. ET 4/13/21.

Docket Numbers: ER21-1505-000.

Applicants: Diablo Energy Storage, LLC.

Description: Baseline eTariff Filing: Application for Market-Based Rate Authorization under Section 205 of the FPA to be effective 4/1/2021.

Filed Date: 3/23/21.

Accession Number: 20210323-5180.

Comments Due: 5 p.m. ET 4/13/21.

Docket Numbers: ER21-1506-000.

Applicants: Shaw Creek Solar, LLC.

Description: Baseline eTariff Filing: Shaw Creek Solar, LLC Application for MBR Authority to be effective 5/23/2021.

Filed Date: 3/23/21.

Accession Number: 20210323-5181.

Comments Due: 5 p.m. ET 4/13/21.

Docket Numbers: ER21-1507-000.

Applicants: Tri-State Generation and Transmission Association, Inc.

Description: Tariff Cancellation: Notice of Cancellation of Service Agreement No. 884 to be effective 2/25/2020.

Filed Date: 3/23/21.

Accession Number: 20210323-5198.

Comments Due: 5 p.m. ET 4/13/21.

Docket Numbers: ER21-1508-000.

Applicants: Tri-State Generation and Transmission Association, Inc.

Description: Tariff Cancellation: Notice of Cancellation of Rate Schedule FERC No. 233 to be effective 11/5/2020.

Filed Date: 3/24/21.

Accession Number: 20210324-5043.

Comments Due: 5 p.m. ET 4/14/21.

Docket Numbers: ER21-1509-000.

Applicants: PacifiCorp.

Description: Tariff Cancellation: Termination of BPA Non-Conforming PTP Agreement (Green Springs) to be effective 4/30/2021.

Filed Date: 3/24/21.

Accession Number: 20210324-5060.

Comments Due: 5 p.m. ET 4/14/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 24, 2021.
Kimberly D. Bose,
Secretary.

[FR Doc. 2021-06508 Filed 3-29-21; 8:45 am]

BILLING CODE 6717-01-P